DEPARTMENT OF HOMELAND SECURITY

Federal Emergency Management Agency

[Docket ID FEMA-2013-0002; Internal Agency Docket No. FEMA-B-1315]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 14, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1315, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
Gibson County, Indiana, and Incorporated Areas
Maps Available for Inspection Online at: http://www.in.gov/dnr/water/6670.htm
City of Oakland City | City Hall, 210 East Washington Street, Oakland City, IN 47660.
City of Princeton | City Hall, 310 West State Street, Princeton, IN 47670.
Town of Fort Branch | Town Hall, 210 West Locust Street, Fort Branch, IN 47648.
Town of Francisco | Town Hall, 203 West Main Street, Francisco, IN 47649.
Town of Hazleton | Town Hall, 101 South Main Street, Hazleton, IN 47640.
Town of Patoka | Town Hall, 110 South Main Street, Patoka, IN 47666.
Unincorporated Areas of Gibson County | Gibson County Annex North, 225 North Hart Street, Princeton, IN 47670.
Morgan County, Indiana, and Incorporated Areas
Maps Available for Inspection Online at: http://www.in.gov/dnr/water/6472.htm
City of Martinsville | City Hall, 59 South Jefferson Street, Martinsville, IN 46151.
Town of Brooklyn | Town Hall, 4 North Main Street, Brooklyn, IN 46111.
Town of Mooresville | Town Hall, 4 East Harrison Street, Mooresville, IN 46158.
Town of Morgantown | Town Hall, 120 West Washington Street, Morgantown, IN 46160.
Town of Paragon | Town Hall, 209 West Union Street, Paragon, IN 46166.
Unincorporated Areas of Morgan County | Morgan County Administration Building, 180 South Main Street, Martinsville, IN 46151.
Posey County, Indiana, and Incorporated Areas
Maps Available for Inspection Online at: http://www.in.gov/dnr/water/6669.htm
City of Mount Vernon | Posey County Area Plan Commission, 2nd Floor Coliseum Building, Room 223, 126 East Third Street, Mount Vernon, IN 47620.
Town of Cynthiana | Posey County Area Plan Commission, 2nd Floor Coliseum Building, Room 223, 126 East Third Street, Mount Vernon, IN 47620.
Town of Griffin | Posey County Area Plan Commission, 2nd Floor Coliseum Building, Room 223, 126 East Third Street, Mount Vernon, IN 47620.
Town of New Harmony | Town Hall, 520 Church Street, New Harmony, IN 47631.
Unincorporated Areas of Posey County | Posey County Area Plan Commission, 2nd Floor Coliseum Building, Room 223, 126 East Third Street, Mount Vernon, IN 47620.
Shelby County, Indiana, and Incorporated Areas
Maps Available for Inspection Online at: http://www.in.gov/dnr/water/6594.htm
City of Shelbyville | City Hall, Planning Commission, 44 West Washington Street, Shelbyville, IN 46176.
Town of Morristown | Municipal Building, 418 West Main Street, Morristown, IN 46161.
Unincorporated Areas of Shelby County | Shelby County Plan Commission, 25 West Polk Street, Shelbyville, IN 46176.
Howard County, Nebraska, and Incorporated Areas
Maps Available for Inspection Online at: www.starr-team.com/starr/RegionalWorkspaces/RegionVII/HowardCounty/SitePages/Home.aspx
City of St. Paul | City Hall, 704 6th Street, St. Paul, NE 68873.
Unincorporated Areas of Howard County | Howard County Courthouse, 612 Indian Street, St. Paul, NE 68873.
Village of Dannebrog | Village Hall, 102 South Mill Street, Dannebrog, NE 68831.
Summit County, Ohio, and Incorporated Areas
Maps Available for Inspection Online at: http://www.starr-team.com/starr/RegionalWorkspaces/RegionV/SummitCountyOH/SitePages/Home.aspx
City of Akron | City Hall, 166 South High Street, Akron, OH 44308.
City of Barberton | Engineering Department, 576 West Park Avenue, Barberton, OH 44203.
City of Cuyahoga Falls | Engineering Department, 2310 Second Street, Cuyahoga Falls, OH 44221.
City of Fairlawn | City Hall, 3487 South Smith Road, Fairlawn, OH 44333.
City of Green | Central Administration Building, 1755 Town Park Boulevard, Uniontown, OH 44685.
City of Hudson | City Hall, 115 Executive Parkway, Suite 400, Hudson, OH 44236.
City of Munroe Falls | City Hall, 43 Munroe Falls Avenue, Munroe Falls, OH 44262.
City of New Franklin | City Hall, 5611 Manchester Road, Akron, OH 44319.
City of Norton | Building and Zoning Department, 4060 Columbia Woods Drive, Norton, OH 44203.
City of Stow | Engineering Department, 3760 Darrow Road, Stow, OH 44224.
City of Tallmadge | Planning and Zoning Department, 46 North Avenue, Tallmadge, OH 44278.
City of Twinsburg | City Hall, 10075 Ravenna Road, Twinsburg, OH 44087.
Unincorporated Areas of Summit County | Building Standards Department, 1030 East Tallmadge Avenue, Akron, OH 44310.
Village of Boston Heights | Village Hall, 45 East Boston Mills Road, Boston Heights, OH 44236.
Village of Clinton | Village Hall, 7871 Main Street, Clinton, OH 44216.
Village of Lakemore | Municipal Building, 1400 Main Street, Lakemore, OH 44250.
Village of Mogadore | Village Hall, 135 South Cleveland Avenue, Mogadore, OH 44260.
Village of Peninsula | Village Hall, 1582 Main Street, Peninsula, OH 44264.
Village of Reminderville | Village Hall, 3382 Glenwood Boulevard, Reminderville, OH 44202.
Village of Richfield | Planning and Zoning Department, 4410 West Streetsboro Road, Richfield, OH 44286.
Village of Silver Lake | Village Hall, 2961 Kent Road, Silver Lake, OH 44224.
Bristol County, Rhode Island (All Jurisdictions)
Maps Available for Inspection Online at: http://www.starr-team.com/starr/RegionalWorkspaces/RegionI/Pages/default.aspx
Town of Barrington | Town Hall, 283 County Road, Barrington, RI 02806.
Town of Bristol | Town Hall, 10 Court Street, Bristol, RI 02809.
Town of Warren | Town Hall, 513 Main Street, Warren, RI 02885.
Jefferson County, Wisconsin, and Incorporated Areas
Maps Available for Inspection Online at: http://www.starr-team.com/starr/RegionalWorkspaces/RegionV/JeffersonWI/Preliminary%20Maps/Forms/AllItems.aspx
City of Fort Atkinson | City Hall, 101 North Main Street, Fort Atkinson, WI 53538.
City of Jefferson | City Hall, 317 South Main Street, Jefferson, WI 53549.
City of Lake Mills | City Hall, 200 D Water Street, Lake Mills, WI 53551.
City of Waterloo | City Hall, 136 North Monroe Street, Waterloo, WI 53594.
City of Watertown | City Hall, 106 Jones Street, Watertown, WI 53094.
City of Whitewater | City Hall, 312 West Whitewater Street, Whitewater, WI 53190.
Unincorporated Areas of Jefferson County | County Courthouse, Room 201, 320 North Main Street, Jefferson, WI 53949.
Village of Cambridge | Village Hall, 200 Spring Street, Cambridge, WI 53523.
Village of Johnson Creek | Village Hall, 125 Depot Street, Johnson Creek, WI 53038.
Village of Lac La Belle | Village Hall, 600 Lac La Belle Drive, Oconomowoc, WI 53066.
Village of Palmyra | Village Hall, 100 West Taft Street, Palmyra, WI 53156.
Galveston County, Texas, and Incorporated Areas
Maps Available for Inspection Online at: http://www.riskmap6.com/Community.aspx?cid=333&sid=5
City of Clear Lake Shores | City Hall, 1006 South Shore Drive, Clear Lake Shores, TX 77565.
City of Dickinson | City Hall, 4403 Highway 3, Dickinson, TX 77539.
City of Friendswood | City Hall, 910 South Friendswood Drive, Friendswood, TX 77546.
City of Galveston | City Hall, 823 Rosenberg Street, Room 401, Galveston, TX 77553.
City of Hitchcock | City Hall, 7423 Highway 6, Hitchcock, TX 77563.
City of Kemah | City Hall, 1401 Highway 146, Kemah, TX 77565.
City of La Marque | City Hall, 1111 Bayou Road, La Marque, TX 77568.
City of League City | Building Department, 600 West Walker Street, League City, TX 77573.
City of Santa Fe | City Hall, 12002 Highway 6, Santa Fe, TX 77510.
City of Texas City | Community Development Department, 928 5th Avenue North, Texas City, TX 77590.
Unincorporated Areas of Galveston County | Galveston County Courthouse, 722 Moody Avenue, Galveston, TX 77550.
Village of Bayou Vista | City Hall, 2929 Highway 6, Bayou Vista, TX 77563.
Village of Jamaica Beach | Municipal Court, 16628 San Luis Pass Road, Jamaica Beach, TX 77554.
Village of Tiki Island | Civic Association, 802 Tiki Drive, Tiki Island, TX 77554.

(Catalog of Federal Domestic Assistance No. 97.022, “Flood Insurance.”)

Roy E. Wright,
Deputy Associate Administrator for Mitigation, Department of Homeland Security, Federal Emergency Management Agency.

[FR Doc. 2013-11586 Filed 5-15-13; 8:45 am]

BILLING CODE 9110-12-P